DEPARTMENT OF HEALTH AND HUMAN SERVICES

Centers for Disease Control and Prevention

Disease, Disability, and Injury Prevention and Control Special Emphasis Panel (SEP)—RFA-IP-24-046, Nationwide Cohort To Estimate Burden of Respiratory Viruses and Immunologic Response (Blood Donor Cohort); Amended Notice of Closed Meeting

Notice is hereby given of a change in the closed meeting of the Disease, Disability, and Injury Prevention and Control Special Emphasis Panel (SEP)—RFA-IP-24-046, Nationwide Cohort to Estimate Burden of Respiratory Viruses and Immunologic Response (Blood Donor Cohort); April 11-12, 2024, 10 a.m.-5 p.m., EDT, videoconference, in the original Federal Register notice. The meeting notice was published in the Federal Register on January 16, 2024, Volume 89, Number 10, pages 2618-2619.

The notice is being amended to change the meeting dates to a one-day meeting and should read as follows:

Name of Committee: Disease, Disability, and Injury Prevention and Control Special Emphasis Panel (SEP)—RFA-IP-24-046, Nationwide Cohort to Estimate Burden of Respiratory Viruses and Immunologic Response (Blood Donor Cohort).

Date: April 11, 2024.

Time: 10 a.m.-5 p.m., EDT.

The meeting is closed to the public.

For Further Information Contact: Gregory Anderson, M.S., M.P.H., Scientific Review Officer, National Center for HIV, Viral Hepatitis, STD, and TB Prevention, Centers for Disease Control and Prevention, 1600 Clifton Road NE, Mailstop H24-6, Atlanta, Georgia 30329-4027. Telephone: (404) 718-8833; Email: GAnderson@cdc.gov.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-04199 Filed 2-28-24; 8:45 am]

BILLING CODE 4163-18-P